DEPARTMENT OF COMMERCE

National Oceanic and Atmospheric Administration

50 CFR Part 622

[Docket No. 191011-0061]

RIN 0648-BJ01

Fisheries of the Caribbean, Gulf of Mexico, and South Atlantic; Spiny Lobster Trap Fishery of the U.S. Virgin Islands (USVI); Control Date

AGENCY: National Marine Fisheries Service (NMFS), National Oceanic and Atmospheric Administration (NOAA), Commerce.

ACTION: Advance notice of proposed rulemaking; consideration of a control date.

SUMMARY: This notice announces the establishment of a control date of September 1, 2017, that the Caribbean Fishery Management Council (Council) may use if it decides to create restrictions limiting participation in the spiny lobster trap fishery in the exclusive economic zone (EEZ) off St. Thomas and St. John, or St. Croix, U.S. Virgin Islands (USVI). Persons entering the fishery in either area after the control date will not be assured of future access should a management regime that limits participation in the fishery be prepared and implemented. NMFS invites comments on the establishment of this control date.

DATES: Written comments must be received by November 18, 2019.

ADDRESSES: You may submit comments identified by “NOAA-NMFS-2019-0070” by either of the following methods:

• Electronic Submission: Submit all electronic public comments via the Federal e-Rulemaking Portal. Go to www.regulations.gov/#!docketDetail;D=NOAA-NMFS-2019-0070, click the “Comment Now!” icon, complete the required fields, and enter or attach your comments.

• Mail: Submit written comments to Sarah Stephenson, NMFS Southeast Regional Office, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Sarah Stephenson, NMFS Southeast Regional Office, telephone: 727-824-5305, or email: sarah.stephenson@noaa.gov.

SUPPLEMENTARY INFORMATION: The spiny lobster trap fishery is managed under the Fishery Management Plan (FMP) for the Spiny Lobster Fishery of Puerto Rico and the USVI. However, NMFS notes that the Council is in the process of transitioning Federal fisheries management in the U.S. Caribbean from four species-based FMPs for Puerto Rico and the USVI to three island-based FMPs (Puerto Rico FMP, St. Thomas and St. John FMP, and St. Croix FMP). The island-based FMPs would manage multiple species, including spiny lobster, within the EEZ defined for each island management area (appendix E to part 622).

Currently in the U.S. Caribbean, which includes Puerto Rico and the USVI, there is no Federal permit for the spiny lobster trap fishery. However, the territorial governments of Puerto Rico, St. Thomas and St. John, and St. Croix issue commercial fishing licenses for their territorial waters.

At their August 2018 meeting, the Council recommended a control date of September 1, 2017, for the spiny lobster trap fishery off the USVI. The control date would apply to persons who have entered or are contemplating entering this fishery after September 1, 2017. The control date would be applicable under the current FMP and it is the Council's intent that is would also be applicable under the island-based FMPs, if approved.

Previously, the Council established a control date of February 10, 2011 (78 FR 20496, April 5, 2013), for the commercial spiny lobster trap fishery in the U.S. Caribbean operating in Federal waters off Puerto Rico and the USVI. At their August 2018 meeting, the Council discussed modifying the previous control date for the spiny lobster trap fishery off the USVI to address more recent concerns presented at that meeting by spiny lobster trap fishermen and the USVI government. Specifically, with the planned implementation of the island-based FMPs, potential increases in annual catch limits for spiny lobster in the EEZ off the USVI could increase fishing effort that would affect the fishery, which historically has been small-scale and market-driven. Both spiny lobster trap fishermen and the USVI government were concerned that, in the future, new participants may establish large-scale operations for harvesting spiny lobster that would impact the ecosystem (i.e., more traps deployed), historical participants, and fishing communities.

In order to preserve and protect the economically and culturally important spiny lobster trap fishery in the USVI, the Council decided to update the previous control date of February 10, 2011, and establish a September 1, 2017, control date for the spiny lobster trap fishery around the USVI. The Council selected September 1, 2017, as the control date because, soon thereafter, Hurricanes Maria and Irma severely curtailed fishing activities in the USVI. Therefore, the Council determined the period prior to September 1, 2017, best represents historic participation in the spiny lobster trap fishery in the USVI. The control date enables the Council to inform current and potential participants that it may consider creating restrictions to limit participation or other measures in the spiny lobster trap fishery around St. Thomas and St. John, or St. Croix, USVI.

The Council requested that this control date be published in the Federal Register to notify fishermen that if they entered the fishery after September 1, 2017, they may not be assured of future access if the Council or NMFS decide to limit entry or impose other measures to manage the spiny lobster trap fishery around St. Thomas and St. John, or St. Croix, USVI.

Establishment of this control date does not commit the Council or NMFS to any particular management regime or criteria for entry into the spiny lobster trap fishery around St. Thomas and St. John, or St. Croix, USVI. Fishermen are not guaranteed future participation in the trap fishery regardless of their level of participation before or after the control date. The Council may recommend a different control date or it may recommend a management regime that does not involve a control date. Other criteria, such as documentation of landings or fishing effort, may be used to determine eligibility for participation in a limited access fishery. The Council or NMFS also may choose to take no further action to control entry or access to the fishery, in which case the control date may be rescinded. Any action by the Council will be taken pursuant to the requirements for fishery management plan and amendment development established under the Magnuson-Stevens Fishery Conservation and Management Act.

This notification also gives the public notice that interested participants should locate and preserve records that substantiate and verify their participation in the spiny lobster trap fishery in the EEZ off St. Thomas and St. John, and St. Croix, USVI.

Authority: 16 U.S.C. 1801 et seq.

Dated: October 15, 2019.
Samuel D. Rauch, III,
Deputy Assistant Administrator for Regulatory Programs, National Marine Fisheries Service.

[FR Doc. 2019-22780 Filed 10-17-19; 8:45 am]

BILLING CODE 3510-22-P